DEPARTMENT OF THE INTERIOR

Bureau of Land Management

[NM-930-1430-ET; NMNM 52408, NMNM 52409, NMNM 52410]

Public Land Order No. 7462; Revocation of Three Secretarial Orders dated May 1, 1929, April 27, 1939, and May 24, 1939; New Mexico

AGENCY: Bureau of Land Management, Interior.

ACTION: Public Land Order.

SUMMARY: This order revokes three Secretarial orders in their entirety as to the remaining 240 acres of lands withdrawn for Air Navigation Site Nos. 29, 125, and 128. The lands are not needed for the purpose for which they were withdrawn. Eighty acres have been conveyed out of Federal ownership and revocation of the withdrawal on those lands is a record-clearing action only. The remaining 160 acres will be opened to all forms of appropriation under the public land laws.

EFFECTIVE DATE: November 6, 2000.

FOR FURTHER INFORMATION CONTACT: Jeanette Espinosa, BLM New Mexico State Office, 1474 Rodeo Road, Santa Fe, New Mexico 87502, 505-438-7597.

By virtue of the authority vested in the Secretary of the Interior by Section 204 of the Federal Land Policy and Management Act of 1976, 43 U.S.C. 1714 (1994), it is ordered as follows:

1. The Secretarial Orders dated April 27, 1939 and May 24, 1939, which withdrew lands for Air Navigation Site Nos. 125, and 128 are hereby revoked in their entirety as to the remaining lands described below:

New Mexico Principal Meridian

T. 4 S., R. 1 E.,

Sec. 10, NW¼SW¼.

T. 13 S., R. 1 W.,

Sec. 7, E½SW¼;

Sec. 18, NE¼NW¼.

The areas described aggregate 160 acres in Sierra and Socorro Counties.

2. The Secretarial Order dated May 1, 1929, which withdrew lands for Air Navigation Site No. 29, is hereby revoked in its entirety as to the remaining lands described below:

T. 4 N., R. 18 E.,

Sec. 13, NW¼SW¼.

T. 3 N., R. 23 E.,

Sec. 3, SE¼NW½.

The areas described aggregate 80 acres in Guadalupe and De Baca Counties.

3. At 10 a.m. on November 6, 2000, the lands described in paragraph 1 will be opened to all forms of appropriation under the public land laws.

4. The land described in paragraph 2 has been conveyed out of Federal ownership and this is a record-clearing action only for those lands.

Dated: September 12, 2000
Sylvia V. Baca,
Assistant Secretary of the Interior.

[FR Doc. 00-25579 Filed 10-4-00; 8:45 am]

BILLING CODE 4310-FB-P